SMALL BUSINESS ADMINISTRATION

CommunityExpress Pilot Program

AGENCY: U.S. Small Business Administration (SBA).

ACTION: Notice of Pilot Program extension.

SUMMARY: This notice announces SBA's extension of the CommunityExpress Pilot Program until June 30, 2008. This extension will allow SBA to complete and implement a restructuring of the CommunityExpress program.

DATES: The CommunityExpress Pilot Program is extended under this notice until June 30, 2008.

FOR FURTHER INFORMATION CONTACT: Charles Thomas, Office of Financial Assistance, U.S. Small Business Administration, 409 Third Street, SW., Washington, DC 20416; Telephone (202) 205-6490; charles.thomas@sba.gov.

SUPPLEMENTARY INFORMATION: The CommunityExpress Pilot Program was established in 1999 based on the Agency's SBAExpress Program. Lenders approved for participation in CommunityExpress are authorized to use the expedited loan processing procedures in place for the SBAExpress Program, but the loans approved under this Program must be to distressed or underserved markets. To encourage lenders to make these loans, SBA provides its standard 75-85 percent guaranty, which contrasts to the 50 percent guaranty the Agency provides under SBAExpress. However, under CommunityExpress, participating lenders must arrange and, when necessary, pay for appropriate technical assistance for their borrowers under the program. Maximum loan amounts under this Program are limited to $250,000. SBA previously extended CommunityExpress until March 30, 2008 (72 FR 73415) to discuss and develop possible changes and enhancements to the Program.

The further extension of this Program until June 30, 2008, will allow SBA to evaluate several program concepts and features designed to improve the potential effectiveness and efficiency of the program and enhance the prospects of success for the small business borrowers under it.

(Authority: 13 CFR 120.3)

Eric R. Zarnikow,
Associate Administrator for Capital Access.

[FR Doc. E8-6550 Filed 3-28-08; 8:45 am]

BILLING CODE 8025-01-P